DEPARTMENT OF COMMERCE

International Trade Administration

Mission Statement

AGENCY: International Trade Administration, Department of Commerce.

ACTION: Notice

Mission Statement

Medical Equipment Trade Mission to the Philippines, Thailand, and Malaysia, August 4-12, 2008

Mission Description: The United States Department of Commerce, International Trade Administration, U.S. Commercial Service is organizing a Medical Equipment Trade Mission to the Philippines, Thailand, and Malaysia from August 4 to 12, 2008. The mission provides an opportunity for U.S. firms to tap into lucrative, fast growing markets for U.S. medical equipment. The medical equipment sector in these countries is growing at an average 13 percent rate, and the United States remains a major source of medical equipment, with an average 28 percent market share. At each stop, the mission will include country briefings; individual business meetings with prospective agents, distributors, partners, and end-users; site visits; and networking functions with private companies and local government officials.

Commercial Setting—Philippines: The Philippines medical industry is almost totally dependent on imports, and medical tourism to the Philippines continues to grow, offering many opportunities for U.S. sellers of medical equipment and instruments. Several hospitals are improving facilities and adapting new technologies to address demand from foreigners and returning residents. The United States claims an estimated 25 percent of the Philippines' $177 million import market for medical equipment, making it second only to China as the top supplier. U.S.-trained Filipino doctors prefer the high technology of American equipment, which justifies their higher costs. Best prospects include electromedical equipment, ultrasonic scanning machines, X-ray and radiation equipment, dialysis instruments and apparatus, and medical and surgical instruments.

Thailand: The market for medical devices in Thailand grew by an estimated 15 percent in 2007. About 75 percent of medical devices in Thailand are imported, and the U.S. share is about 29 percent. Market growth in the next few years (2008 to 2010) will continue to derive mainly from the need to upgrade health care facilities and replace medical devices. Hospitals are promoting high-end equipment and specializations to attract more patients. Hospital equipment is imported and distributed by independent agents and/or distributors who also handle marketing, customs clearance, and product registration/import authorization. Best prospects include heart valves and artificial blood vessels, disposable diagnostic test kits, quick diagnostic testing devices, respiratory devices and oxygen therapy, rehabilitation equipment and accessories, orthopedic and implant devices and accessories, minimum invasive surgical devices, and neurosurgical and other surgical devices.

Malaysia: The $1.4 billion Malaysian medical devices market is projected to grow at a rate of 10 percent in 2008. Ninety percent of medical devices are imported, and the U.S. import market share is 22 percent. An increasing patient population and focus on health care cost containment and preventative therapies influence demand for medical devices for cardiovascular, orthopedic, respiratory, ophthalmic, neurological, disposable, and infection control applications. The increasing senior population and modern lifestyle diseases are expected to boost demand for more affordable quality drugs and equipment. Plans for constructing new and replacement hospitals are under way. Promotion of health tourism is robust and includes developing health services in areas where Malaysia offers a comparative advantage, such as spas and cosmetic services. The Ministry of Tourism has unveiled a health tourism portal, and the government's ninth Malaysia Plan, for 2006-2010, includes proposals for four significant new health care programs. Best prospects include electromedical equipment, orthopedic appliances, and diagnostic and therapeutic radiation devices.

Mission Goals: The mission will showcase U.S. medical equipment and technology to improve health care delivery in each country. The objective of the mission is to facilitate market entry and/or increase sales for U.S. suppliers of medical devices, as well as provide firsthand market information and access to potential business partners.

Mission Scenario: The Commercial Service in Manila, Bangkok, and Kuala Lumpur will provide country briefings; customized, pre-arranged appointments with prospective partners, distributors, and end-users; meetings with appropriate host government agencies; and networking events with local officials and company representatives. The focus of the mission will be to match U.S. companies with pre-screened agents, distributors, buyers, and representatives in these markets.

Criteria for Participation

• Relevance of a company's business to mission goals.

• Potential for business in the selected markets for the company.

• Company must supply adequate information on its products/services, and on its market objectives, in order to facilitate appropriate matching with potential business partners.

• Company's product or service must be either produced in the United States, or, if not, marketed under the name of a U.S. firm and have at least 51 percent U.S. content of the value of the finished product or service.

• Timeliness of a company's signed application and participation agreement, including a participation fee of $3,500. This fee does not include travel, lodging, and most meals.

Recruitment will be conducted on a first come-first served basis and will close July 11, 2008. Applications received after July 11 will be considered only if space and scheduling permit.

Contact: Jennifer Loffredo, Global Health Care Technologies Team Leader. E-mail: Jennifer.Loffredo@mail.doc.gov. Telephone: 248-975-9600.

Nancy Hesser,
Manager, Commercial Service Trade Missions, U.S. Commercial Service, International Trade Administration.

[FR Doc. E8-5933 Filed 3-24-08; 8:45 am]

BILLING CODE 3510-25-P